DEPARTMENT OF TRANSPORTATION

Federal Aviation Administration

14 CFR Part 39

[Docket No. FAA-2004-19694; Directorate Identifier 2004-CE-41-AD]

RIN 2120-AA64

Airworthiness Directives; Cirrus Design Corporation Model SR20 and SR22 Airplanes

AGENCY: Federal Aviation Administration (FAA), DOT.

ACTION: Notice of proposed rulemaking (NPRM).

SUMMARY: The FAA proposes to adopt a new airworthiness directive (AD) for certain Cirrus Design Corporation (CDC) Model SR20 and SR22 airplanes. This proposed AD would require you to measure and adjust the crew seat break-over bolts and to replace the crew seat recline locks on both crew seats. This proposed AD results from CDC discovering that the crew seats, under emergency landing dynamic loads, may fold forward at less than 26 G required by the regulations. We are issuing this proposed AD to prevent the crew seats from folding forward during emergency landing with dynamic loads with consequent occupant injury.

DATES: We must receive any comments on this proposed AD by February 24, 2005.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Cirrus Design Corporation, 4515 Taylor Circle, Duluth, Minnesota 55811; telephone: (218) 727-2737.

To view the comments to this proposed AD, go to http://dms.dot.gov. The docket number is FAA-2004-19694.

FOR FURTHER INFORMATION CONTACT: Angie Kostopoulos, Aerospace Engineer, ACE-116C, Chicago Aircraft Certification Office, 2300 East Devon Avenue, Room 107, Des Plaines, Illinois 60018; telephone: (847) 294-7426; facsimile: (847) 294-7834.

SUPPLEMENTARY INFORMATION:

Comments Invited

How do I comment on this proposed AD? We invite you to submit any written relevant data, views, or arguments regarding this proposal. Send your comments to an address listed under ADDRESSES. Include the docket number, “FAA-2004-19694; Directorate Identifier 2004-CE-41-AD” at the beginning of your comments. We will post all comments we receive, without change, to http://dms.dot.gov, including any personal information you provide. We will also post a report summarizing each substantive verbal contact with FAA personnel concerning this proposed rulemaking. Using the search function of our docket web site, anyone can find and read the comments received into any of our dockets, including the name of the individual who sent the comment (or signed the comment on behalf of an association, business, labor union, etc.). This is docket number FAA-2004-19694. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9:00 a.m. and 5:00 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? The Cirrus Design Corporation (CDC) performed dynamic seat testing on Models SR20 and SR22 airplanes. CDC found that, under emergency landing dynamic loads, the crew seats may fold forward at less than the 26 Gs required by 14 CFR Section 23.562 (b) (2).

What is the potential impact if FAA took no action? If not prevented, the crew seats folding forward during emergency landing with dynamic loads could result in occupant injury.

Is there service information that applies to this subject? Cirrus Design Corporation has issued Service Bulletin SB 2X-25-06 R2, dated December 6, 2004, and Service Bulletin SB A2X-25-08, dated June 22, 2004.

What are the provisions of this service information? The service bulletins include procedures for:

—Inspecting crew seat break-over bolts;

—Adjusting the crew seat break-over bolts;

—Checking recline lock identification;

—Performing recline lock replacement; and

—Checking break-over pin alignment.

FAA's Determination and Requirements of This Proposed AD

What has FAA decided? We have evaluated all pertinent information and identified an unsafe condition that is likely to exist or develop on other products of this same type design. For this reason, we are proposing AD action.

What would this proposed AD require? This proposed AD would require you to incorporate the actions in the previously-referenced service bulletins.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 1,501 airplanes in the U.S. registry.

What would be the cost impact of this proposed AD on owners/operators of the affected airplanes? CDC will provide warranty credit for service bulletins SB A2X-25-08, dated June 22, 2004, and SB 2X-25-06 R2, dated December 6, 2004.

Authority for This Rulemaking

What authority does FAA have for issuing this rulemaking action? Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket FAA-2004-19694; Directorate Identifier 2004-CE-41-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Cirrus Design Corporation: Docket No. FAA-2004-19694; Directorate Identifier 2004-CE-41-AD

When Is the Last Date I Can Submit Comments on This Proposed AD?

(a) We must receive comments on this proposed airworthiness directive (AD) by February 24, 2005.

What Other ADs Are Affected by This Action?

(b) None.

What Airplanes Are Affected by This AD?

(c) This AD affects the following airplane models and serial numbers that are certificated in any category:

Model | Serial Nos.
(1) SR20 | 1005 through 1439.
(2) SR22 | 0002 through 1044.

What Is the Unsafe Condition Presented in This AD?

(d) This AD is the result of discovering that the crew seats, under emergency landing dynamic loads, may fold forward at less than 26 G required by the regulations, 14 Code of Federal Regulations (CFR) Section 23.562 (b) (2). The actions specified in this AD are intended to prevent the crew seats from folding forward during emergency landing with dynamic loads with consequent occupant injury.

What Must I Do To Address This Problem?

(e) To address this problem, you must do the following:

Actions | Compliance | Procedures
(1) For models SR20, serial numbers 1005 through 1423, and SR22, serial numbers 0002 through 0972, do the following actions: | Within 50 hours time-in-service (TIS) or within 180 days, whichever occurs first after the effective date this AD | Follow Cirrus Design Corporation Service Bulletin SB A2X-25-08, dated June 22, 2004.
(i) Move the lower portion of the crew seat upholstery upward to expose of the seat frame and locking mechanism. Measure the clearance between the break-over bolt and the seat frame for a clearance that meets the requirements in the service bulletin
(ii) If the clearance does not meet that specified in the service bulletin, perform the crew seat break-over bolt adjustment and re-cover the crew seat frame and locking mechanism with the upholstery
(iii) If the clearance does meet that specified in the service bulletin, re-cover the crew seat frame and locking mechanism
(2) For models SR20, serial numbers 1005 through 1439, and SR22, serial numbers 0002 through 1044, do the following actions: | Within 50 hours TIS or within 180 days, whichever occurs first after the effective date of this AD | Follow Cirrus Design Corporation Service Bulletin SB 2X-25-06 R2, dated December 6, 2004.
(i) Identify whether the recline lock is secured with two bolts or three bolts
(ii) If the recline locks are secured effective 6, 2004. with two bolts, remove the existing recline date of this locks and replace with the new recline locks AD. kit, kit number 70084-001
(iii) If the recline locks are secured with three bolts, remove existing recline locks and replace with the new recline locks kit, kit number 70084-002
(iv) Check break-over pin alignment and adjust as necessary
(v) Repeat the above actions for the opposite crew seat

May I Request an Alternative Method of Compliance?

(f) You may request a different method of compliance or a different compliance time for this AD by following the procedures in 14 CFR 39.19. Unless FAA authorizes otherwise, send your request to your principal inspector. The principal inspector may add comments and will send your request to the Manager, Chicago Aircraft Certification Office, FAA. For information on any already approved alternative methods of compliance, contact Angie Kostopoulos, Aerospace Engineer, ACE-116C, Chicago Aircraft Certification Office, 2300 East Devon Avenue, Room 107, Des Plaines, Illinois 60018; telephone: (847) 294-7426; facsimile: (847) 294-7834.

May I Get Copies of the Documents Referenced in This AD?

(g) To get copies of the documents referenced in this AD, contact Cirrus Design Corporation, 4515 Taylor Circle, Duluth, Minnesota 55811; telephone: (218) 727-2737. To view the AD docket, go to the Docket Management Facility; U.S. Department of Transportation, 400 Seventh Street, SW., Nassif Building, Room PL-401, Washington, DC, or on the Internet at http://dms.dot.gov. The docket number is FAA-2004-19694.

Issued in Kansas City, Missouri, on January 7, 2005.
James E. Jackson,
Acting Manager, Small Airplane Directorate, Aircraft Certification Service.

[FR Doc. 05-717 Filed 1-12-05; 8:45 am]

BILLING CODE 4910-13-P